DEPARTMENT OF COMMERCE

National Oceanic and Atmospheric Administration

RIN 0648-XK26

Marine Mammals; File No. 13430

AGENCY: National Marine Fisheries Service (NMFS), National Oceanic and Atmospheric Administration (NOAA), Commerce.

ACTION: Notice; issuance of permit.

SUMMARY: Notice is hereby given that NMFS National Marine Mammal Laboratory, (Responsible Party: Dr. John Bengtson, Director), Seattle, WA, has been issued a permit to conduct research on marine mammals.

ADDRESSES: The permit and related documents are available for review upon written request or by appointment in the following office(s):

Permits, Conservation and Education Division, Office of Protected Resources, NMFS, 1315 East-West Highway, Room 13705, Silver Spring, MD 20910; phone (301) 713-2289; fax (301) 713-0376; and

Northwest Region, NMFS, 7600 Sand Point Way NE, BIN C15700, Bldg. 1, Seattle, WA 98115-0700; phone (206) 526-6150; fax (206) 526-6426.

FOR FURTHER INFORMATION CONTACT: Tammy Adams or Kate Swails, (301) 713-2289.

SUPPLEMENTARY INFORMATION: On September 8, 2008, notice was published in the Federal Register (73 FR 52027) that a request for a permit to conduct research on Pacific harbor seals (Phoca vitulina), California sea lions (Zalophus californianus), and northern elephant seals (Mirounga angustirostris) within coastal waters and on pinniped rookeries and haul outs of Washington and Oregon had been submitted by the above-named applicant. On September 18, 2009, a notice was published in the Federal Register (74 FR 47918) announcing that the applicant had revised their request for a permit to include Eastern Distinct Population Segment Steller sea lions (Eumetopias jubatus) and Southern Resident killer whales (Orcinus orca). The requested permit has been issued under the authority of the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

The permit is valid through January 31, 2015, for harassment of marine mammals during aerial, vessel, and ground surveys; capture of pinnipeds for collection of tissue samples, attachment of scientific instruments and application of marks (flipper tags, brands, etc.); and harassment of marine mammals during underwater playback experiments. The permit also allows for a limited number of research-related mortality of marine mammals.

In compliance with the National Environmental Policy Act of 1969 (42 U.S.C. 4321 et seq.), an environmental assessment (EA) was prepared analyzing the effects of the permitted activities on the human environment. Based on the analyses in the EA, NMFS determined that issuance of the permit would not significantly impact the quality of the human environment and that preparation of an environmental impact statement was not required. That determination is documented in a Finding of No Significant Impact (FONSI), signed on February 16, 2010.

Issuance of this permit, as required by the ESA, was based on a finding that such permit: (1) was applied for in good faith; (2) will not operate to the disadvantage of such endangered species; and (3) is consistent with the purposes and policies set forth in section 2 of the ESA.

Dated: February 18, 2010.
Tammy C. Adams,
Acting Chief, Permits, Conservation and Education Division, Office of Protected Resources, National Marine Fisheries Service.

[FR Doc. 2010-3742 Filed 2-23-10; 8:45 am]

BILLING CODE 3510-22-S